DEPARTMENT OF TRANSPORTATION

Federal Aviation Administration

14 CFR Part 71

[Docket No. FAA-2002-13820; Airspace Docket No. 02-AGL-11]

Modification of Class E Airspace; Flint, MI

Correction

In rule document 02-29900 beginning on page 70534 in the issue of Monday, November 25, 2002, make the following corrections:

1. On page 70534, in the second column, under the heading EFFECTIVE DATE, in the first and second lines, “January 23, 2002” should read, “January 23, 2003”.

§71.1 [Corrected]

2. On the same page, in the third column, in 71.1, in the last paragraph, in the third line, “Ayirport” should read, “Airport”.

[FR Doc. C2-29900 Filed 12-4-02; 8:45 am]

BILLING CODE 1505-01-D